DEPARTMENT OF COMMERCE

National Oceanic and Atmospheric Administration

50 CFR Part 635

[Docket No. 140324263-4705-01]

RIN 0648-BE12

Atlantic Highly Migratory Species; Transshipment, Port Inspection, and Vessel Identification

AGENCY: National Marine Fisheries Service (NMFS), National Oceanic and Atmospheric Administration (NOAA), Commerce.

ACTION: Proposed rule; request for comments.

SUMMARY: NMFS proposes to revise the regulations governing transshipment and international port inspection for vessels with Atlantic highly migratory species (HMS) permits to implement recommendations adopted at recent meetings of the International Commission for the Conservation of Atlantic Tunas (ICCAT). The proposed rule would expand the current prohibition on transfer at sea to include any tuna, tuna-like species, or other Atlantic HMS both at sea and in port inside the Atlantic Ocean, and also prohibit the transfer of Atlantic HMS by U.S. vessels outside of the Atlantic Ocean and its surrounding seas. However, tuna purse seine vessels would still be allowed to transfer Atlantic bluefin tuna from the catcher vessel to the receiving vessel in certain limited circumstances. Additionally, the proposed rule would revise current regulations for U.S.-permitted vessels landing tuna, tuna-like species, or other HMS in foreign ports or making port calls in foreign ports to update information and reporting procedures. NMFS is also notifying vessels with HMS permits of a proposed requirement that they provide an International Maritime Organization (IMO)/Lloyd's Registry (LR) number on their permit application by no later than January 1, 2016. The purpose of this proposed rule is to ensure U.S. compliance with ICCAT recommendations and to facilitate implementation of international monitoring, control, and surveillance measures for Atlantic HMS.

DATES: Written comments must be received on or before October 14, 2014.

ADDRESSES: You may submit comments, identified by “NOAA-NMFS-2014-0063”, by any of the following methods:

• Electronic Submissions: Submit all electronic public comments via the Federal e-Rulemaking Portal. Go to www.regulations.gov/#!docketDetail;D=NOAA-NMFS-2014-0063, click the “Comment Now!” icon, complete the required fields, and enter or attach your comments.

• Mail: Rick Pearson, Atlantic Highly Migratory Species Management Division, NMFS, 263 13th Avenue South, Saint Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

NMFS will also conduct a public conference call and webinar to solicit public comments on this proposed rule on September 19, 2014. For specific information, see the SUPPLEMENTARY INFORMATION section of this document.

Copies of the 2006 Consolidated Atlantic Highly Migratory Species Fishery Management Plan (Consolidated HMS FMP) and other relevant documents are available from the Atlantic Highly Migratory Species Management Division Web site at www.nmfs.noaa.gov/sfa/hms.

FOR FURTHER INFORMATION CONTACT: Rick Pearson at 727-824-5399, or LeAnn Hogan at 301-427-8503.

SUPPLEMENTARY INFORMATION: Atlantic HMS fisheries are managed under the Consolidated HMS FMP and regulations at 50 CFR part 635, pursuant to the authority of the Magnuson-Stevens Fishery Conservation and Management Act (Magnuson-Stevens Act), and the Atlantic Tunas Convention Act (ATCA). Under ATCA, the Secretary promulgates such regulations as may be necessary and appropriate to carry out ICCAT recommendations. In 2012 and 2013, ICCAT adopted binding measures for its Contracting Parties to further combat illegal, unregulated, and unreported (IUU) fishing activities. Consistent with these recent ICCAT recommendations, this proposed rule would implement domestic regulations for vessels that are issued HMS permits, or are required to be issued HMS permits, pertaining to transfer at sea and transshipment, and international port inspection. It also notifies owners of commercial HMS-permitted vessels that are 20 meters or greater in length overall of the need to obtain an IMO/LR number by no later than January 1, 2016.

Transfer at Sea and Transshipment

ICCAT Recommendation 12-06 expands and strengthens ICCAT's previously adopted program for transshipment. Specifically, it eliminates a broad exemption for vessels under 24 meters, expands coverage to all ICCAT species whether transshipped within or outside the Convention Area, increases observer access to documents onboard both transshipping and carrier vessels, and requires data to be provided on ICCAT-managed species by stock, as well as on other species being transshipped if they were caught in association with ICCAT species. These changes were designed to enhance the quality of data collected for use in compliance assessments and for scientific purposes, and will help eliminate any incentive for vessels to transship outside of the ICCAT convention area in order to circumvent ICCAT rules. Current domestic transfer at sea regulations already prohibit the transfer at sea of Atlantic HMS within the Convention Area (i.e., all waters of the Atlantic Ocean including adjacent seas), regardless of where the fish were harvested. These regulations also require that permitted vessels offload Atlantic HMS to permitted dealers, thereby precluding transfers in port. In this rulemaking, NMFS is proposing to amend these regulations to expand the prohibition on transfer at sea to include any tuna, tuna-like species, or other HMS within the Convention Area both at sea or in port, and to also prohibit the transfer of these species at sea outside of the Convention Area, regardless of where the fish were harvested. With these minor changes, it would become unlawful for HMS-permitted vessels (or vessels required to have an HMS permit) to transfer tuna, tuna-like species, or other HMS in port or at sea, both within or outside the Convention Area. However, tuna purse seine vessels would continue to be allowed to transfer only Atlantic bluefin tuna from the catcher vessel to the receiving vessel provided that the amount transferred does not cause the receiving vessel to exceed its currently authorized vessel allocation, including incidental catch limits.

The HMS transfer at sea prohibition was first implemented in 1999 (64 FR 29090, May 28, 1999) in conjunction with publication of the 1999 Fishery Management Plan for Atlantic Tunas, Swordfish, and Sharks (1999 FMP) and was analyzed in the environmental impact statement for that action. The transfer at sea regulation has remained largely unchanged since then, with only two minor amendments in 2010 and 2011. This proposed action would not significantly alter the regulation. Also, there have been no known transfers of Atlantic tuna, tuna-like species, or other HMS by U.S. permitted vessels outside of the Convention Area (e.g., in the Panama Canal or Pacific Ocean). Thus, the proposed action is limited in magnitude and not a significant change from the original environmental action. It is not expected to result in socio-economic impacts on U.S. fishermen.

Port Inspection

ICCAT Recommendation 12-07 establishes a scheme for minimum standards for inspection in port that revises and strengthens ICCAT's previous port inspection program (Recommendation 97-10). The term “port States” refers to countries where vessels are landing fish or making port calls. The term “flag States” refers to countries that have permitted fishing vessels. Pursuant to Recommendation 12-07, port State responsibilities include: (1) Designating and publicizing their ports where foreign fishing vessels can land or transship ICCAT-managed species that have not previously been landed or transshipped at port; (2) requiring advance notice from foreign fishing vessels seeking to enter those ports; (3) deciding whether or not to grant entry to such vessels in consideration of the information received; and, (4) carrying out inspections of at least five percent of landing or transshipment operations made by foreign vessels once in port. The provisions of Recommendation 12-07 are to be applied to foreign fishing vessels equal to or greater than 12 meters in length overall. Notwithstanding the above minimum standards, port States may adopt more stringent port inspection requirements.

ICCAT Recommendation 12-07 also requires that flag States take necessary action to ensure that Masters facilitate safe access to the fishing vessel, cooperate with the competent authorities of the port State, facilitate the inspection and communication and not obstruct, intimidate or interfere, or cause other persons to obstruct, intimidate or interfere with port State inspectors in the execution of their duties.

The United States Coast Guard (USCG) operates the advance notice of arrival system applicable to foreign vessels seeking entry to U.S. ports, and such vessels are subject to inspection by NOAA and USCG personnel under other existing law. NOAA, USCG, and other relevant Federal agencies are in inter-agency discussions on implementation of those provisions of Recommendation 12-07 that pertain to U.S. responsibilities as a port State, such as advance notice of arrival by foreign fishing vessels. Full implementation of those provisions will require separate, additional rulemaking in the future by one or more U.S. agencies and may be addressed in concert with other port State requirements stemming from measures adopted by other Regional Fishery Management Organizations (RFMOs) as well as the Agreement on Port State Measures to Prevent and Deter, and Eliminate Illegal, Unreported, and Unregulated Fishing, adopted by the United Nations Food and Agricultural Organization (FAO) in 2009, should the United States become a party. The U.S. Senate gave its advice and consent for ratification of this treaty in April 2014 and Congress is currently considering implementing legislation.

In this action, NMFS is only proposing to implement certain provisions of Recommendation 12-07. Specifically, this proposed rule would revise current regulations applicable to U.S.-permitted vessels landing tuna, tuna-like species, or other HMS in foreign ports or making port calls in foreign ports, which are codified at 50 CFR part 635. The proposed action would revise § 635.52 to include technical and electronic equipment, records, and other relevant documents deemed necessary to ensure compliance with ICCAT measures as examples of what may be inspected by an authorized officer of a port State when offloading tuna, tuna-like species or other HMS in a foreign port or when making a port call in foreign ports. This rule also proposes to add new language at § 635.53 to inform U.S. vessel operators of the information that they must provide to the port State prior to arrival in a foreign port. Finally, this rule adds § 635.54, which notifies U.S. vessels of the updated procedures for the port State when reporting the results of any port inspection conducted by an authorized foreign port State inspector. The proposed regulations are necessary to maintain consistency with current ICCAT recommendations and to ensure that U.S. permitted fishing vessels have the most current information available to comply with the requirements of foreign countries pursuant to ICCAT Recommendation 12-07. These changes are limited in magnitude and are not expected to result in socio-economic impacts on U.S. fishermen.

Unique Vessel Identifiers

ICCAT Recommendation 13-13 requires vessels 20 meters or greater to obtain an IMO/LR number by no later than January 1, 2016. Current HMS regulations at 50 CFR 635.4(h) are sufficient to comply with this Recommendation, as they allow NMFS to collect required supporting documents, which would include an IMO/LR number, as a condition for obtaining an HMS permit and for being included on the ICCAT list of authorized large scale fishing vessels. Permit applications that do not contain the required supporting documents are considered incomplete. However, NMFS will need to amend the HMS permit applications to add a new field for the IMO/LR number. NMFS intends to amend the permit applications so that affected constituents can provide their IMO/LR number on the application for their 2015 permits. Therefore, through this rulemaking, NMFS is informing affected constituents about the need to obtain an IMO/LR number and to provide that number on their permit application by no later than January 1, 2016. No regulatory changes are currently being proposed to comply with ICCAT Recommendation 13-13.

Technical Correction

A final rule to lift trade restrictions on bigeye tuna from Bolivia and Georgia was published in the Federal Register on August 29, 2012 (77 FR 52259). The prohibition on the import of bigeye tuna from Bolivia and Georgia at 50 CFR 635.71(b)(29) was inadvertently not removed by NMFS in that final rule. A technical correction to remove and reserve § 635.71(b)(29) is included in this proposed rule.

Request for Comments

Comments on this proposed rule may be submitted via http://www.regulations.gov, or by mail. NMFS solicits comments on this proposed rule by October 14, 2014.

Public Conference Call and Webinar

NMFS will hold a public hearing via conference call and webinar to provide an opportunity for the public to comment on the proposed management measures. The conference call and webinar will be conducted on September 19, 2014.

Table 1—Date and Time of Public Conference Call and Webinar
Date | Time | Location | Address
September 19, 2014 | 2:00-4:00 p.m. | Public Conference Call & Webinar | To participate in conference call, call: (888) 282-0568, Passcode: 3095296.
|  |  | To participate in webinar, go to: https://noaa-meets.webex.com/noaa-meets/j.php?MTID=m49d28c3aebcdf2f294fb4ddb86f27506
|  |  | Meeting Number: 998 128 071.
|  |  | Meeting Password: NOAA.

Requests for auxiliary aids should be directed to Rick Pearson at (727) 824-5399 at least 7 days prior to the conference call and webinar. The public is reminded that NMFS expects participants on phone conferences to conduct themselves appropriately. At the beginning of the meeting, a representative of NMFS will explain the ground rules (e.g., attendees will be called to give their comments in the order in which they registered to speak; each attendee will have an equal amount of time to speak; attendees may not interrupt one another; etc.). The NMFS representative will structure the meeting so that all participating members of the public will be able to comment, if they so choose, regardless of the controversial nature of the subject(s). Attendees are expected to respect the ground rules, and those that do not will be asked to leave the meeting.

Classification

The NMFS Assistant Administrator has determined that this proposed rule is consistent with the 2006 Consolidated HMS FMP, other provisions of the Magnuson-Stevens Act, ATCA, and other applicable law, subject to further consideration after public comment.

This action has been preliminarily determined to be categorically excluded from the requirement to prepare an environmental assessment in accordance with NAO 216-6, subject to further consideration after public comment. A draft memorandum for the file has been prepared that sets forth the decision to use a categorical exclusion because the rule would implement minor adjustments to the regulations and would not have a significant effect, individually or cumulatively, on the human environment. A final determination will be made prior to publication of the final rule for this action.

This proposed rule has been determined to be not significant for purposes of Executive Order 12866.

This proposed rule contains a collection-of-information requirement subject to review and approval by OMB under the Paperwork Reduction Act (PRA). ICCAT Recommendation 13-13 requires commercial vessels 20 meters or greater to obtain an International Maritime Organization (IMO) or Lloyd's Registry (LR) number by no later than January 1, 2016. To comply with this Recommendation, as a condition for obtaining an HMS permit, NMFS will require that an IMO/LR number be provided on the HMS permit application from affected constituents by no later than January 1, 2016. A permit application will be considered incomplete if an IMO/LR number is not provided by an affected constituent. An amendment to OMB Control Number 0648-0205 (Southeast Region Federal Fisheries Permit Family of Forms) and Control Number 0648-0327 (HMS Vessel Permits) will be subsequently submitted to the Office of Management and Budget for approval.

The Chief Council for Regulation of the Department of Commerce certified to the Chief Council for Advocacy of the Small Business Administration that this proposed rule, if adopted, would not have a significant economic impact on a substantial number of small entities.

This proposed rule is necessary to implement recent recommendations of ICCAT, as required by ATCA, and to achieve domestic management objectives under the Magnuson-Stevens Act. Under ATCA, the Secretary promulgates such regulations as may be necessary and appropriate to carry out ICCAT recommendations.

In 1997, ICCAT adopted binding measures to address the transfer at sea of ICCAT-managed species (Recommendation 97-11), and port inspection procedures for vessels landing ICCAT-managed species in foreign ports (Recommendation 97-10). These recommendations were first implemented domestically in 1999 (64 FR 29090, May 28, 1999) in conjunction with publication of the 1999 Fishery Management Plan for Atlantic Tunas, Swordfish, and Sharks (1999 FMP). In 2012 and 2013, ICCAT strengthened these recommendations to further combat IUU fishing activities. Accordingly, NMFS is preparing a proposed rule to implement the recent ICCAT recommendations to demonstrate U.S. compliance and facilitate implementation of international monitoring, control, and surveillance measures for Atlantic HMS.

Current domestic regulations at 50 CFR 635.29 prohibit the transfer at sea of Atlantic HMS within the Convention Area. Current regulations at 50 CFR 635.31 also require that permitted vessels offload Atlantic HMS to permitted dealers, thereby precluding transfers in port. The proposed action would extend the current prohibition on transfer at sea to any tuna, tuna-like species, or other HMS between vessels, both in port and at sea, within the Convention Area, and also prohibit the transfer of these species at sea outside of the Convention Area. The proposed action to extend the prohibition on transfer at sea applies to all HMS-permitted vessels, of which there are approximately 30,000 vessels (21,686 Angling; 4,059 commercial tuna; 3,968 Charter/Headboat; 556 limited access swordfish and shark; 73 Incidental Squid Trawl; 16 Caribbean Small Boat; and, approximately 100 swordfish General Commercial).

On June 12, 2014, the Small Business Administration (SBA) issued an interim final rule revising the small business size standards for several industries effective July 14, 2014 (79 FR 33467 (June 12, 2014)). The rule increased the size standard from $19.0 to $20.5 million for finfish fishing, from $5 to $5.5 million for shellfish fishing, and from $7.0 million to $7.5 million for other marine fishing, for-hire businesses, and marinas. Id. at 33656, 33660, and 33666.

The proposed rule for this action was analyzed using the old size standards. Under the previous size standards, all 30,000 HMS-permitted vessels were considered to be small entities for purposes of the Regulatory Flexibility Act. In light of the new size standards, implemented on June 12, 2014, NMFS has reviewed the analyses prepared for this action. The new standards do not result in any more entities being considered small and the new size standards do not affect NMFS' decision to certify this action. NMFS solicits public comment on the analyses in light of the new size standards.

Although this rule impacts a significant number of small entities, there have been no known transfers of Atlantic HMS by U.S. permitted vessels outside of the Convention Area (e.g., in the Panama Canal or Pacific Ocean). Because the current regulations prohibit the transfer of tuna, tuna-like species, or other HMS at sea and in port, and because there have been no known transfers of HMS at sea outside the Convention Area, the proposed action to expand the prohibition on transfer at sea is not expected to result in socioeconomic impacts on U.S. fishermen.

Current domestic regulations at 50 CFR 635.52 indicate that a vessel's “catch, gear, and relevant documents, including fishing logbooks and cargo manifests” are subject to inspection to verify compliance with ICCAT measures when landing ICCAT-managed species in a foreign port. Consistent with ICCAT Recommendation 12-07, NMFS is proposing to include “equipment” (including technical and electronic equipment), “records,” and “any documents the authorized officer deems necessary to determine compliance with ICCAT conservation and management measures” as examples of what may be inspected by an authorized officer of a port State when offloading tuna, tuna-like species or other HMS in a foreign port or when making a port call in foreign ports. The proposed action to notify U.S. vessels of requirements for port inspection when offloading HMS in foreign ports or making port calls in foreign ports would affect approximately 10 vessels that have offloaded HMS in foreign ports since April 2013 (note: These vessels offloaded to HMS-permitted dealers). All 10 vessels are considered to be small under the SBA's new size standards. The proposed action would not significantly alter current regulations, but would merely provide updated information.

This rule also proposes to revise § 635.53 to inform U.S. vessel operators of the information that they must provide to the port State prior to arrival in a foreign port. We do not anticipate that this requirement will impact a significant amount of vessels, as approximately 10 U.S. vessels have offloaded HMS in foreign ports since April 2013. NMFS is not proposing to add any new requirements on U.S. vessels with this revision. In addition, because port States are not regulated entities of the United States, there are no economic impacts to U.S. regulated entities.

This rule also proposes to revise § 635.54, and would merely describe the procedures for reporting by the port State the results of any port inspection conducted by an authorized foreign port State inspector. NMFS is not proposing to add any new requirements on U.S. vessels with this revision. In addition, because port States are not regulated entities of the United States, there are no economic impacts to U.S. regulated entities.

The requirement to obtain an IMO/LR number by no later than January 1, 2016, would apply to all commercial vessels 20 meters or larger in length which is approximately 253 vessels. However, 113 of these vessels already have an IMO/LR number. The remaining 140 vessels would have to obtain a number. These numbers are free of charge and are issued by IHS Maritime on behalf of the International Maritime Organization. The application process is available online at http://www.imonumbers.lrfairplay.com/. The burden associated with this requirement will be analyzed in the Paperwork Reduction Act submission prepared for a revision or change to OMB 0648-0205 (Southeast Region Federal Fisheries Permit Family of Forms) and OMB 0648-0327 (HMS Vessel Permits).

These regulations are necessary to maintain consistency with current ICCAT recommendations and to ensure that U.S.-permitted fishing vessels have the most current information available regarding ICCAT recommendations. The proposed changes in this rule are very limited in magnitude. They are not expected to result in socioeconomic impacts on U.S. fishermen.

Finally, this rule makes a technical correction to remove and reserve § 635.71(b)(29), which was inadvertently not removed when the final rule lifting trade restrictions on bigeye tuna from Bolivia and Georgia was published in the Federal Register on August 29, 2012. This provision is a housekeeping measure to ensure that the regulations are clear and consistent.

List of Subjects in 50 CFR Part 635

Fisheries, Fishing, Fishing vessels, Penalties, Reporting and recordkeeping requirements, Treaties.

Dated: September 8, 2014.
Eileen Sobeck,
Assistant Administrator for Fisheries, National Marine Fisheries Service.

For reasons set out in the preamble, 50 CFR part 635 is proposed to be amended as follows:

PART 635—ATLANTIC HIGHLY MIGRATORY SPECIES

1. The authority citation for part 635 continues to read as follows:

Authority: 16 U.S.C. 971 et seq.; 16 U.S.C. 1801 et seq.

2. Section 635.29 is revised to read as follows:

§ 635.29 Transfer at sea and transshipment.

(a) A person who owns or operates a vessel issued a permit, or required to be issued a permit, under § 635.4 may not, transfer any tuna or tuna-like species, or other HMS, at sea or in port, regardless of where the fish was harvested, except as provided in paragraph (c) of this section.

(b) For the purposes of this part, “transfer” means the act of “transshipping” as defined at 50 CFR 300.301. Notwithstanding the definition of “harvest” at § 600.10 of this chapter, for the purposes of this part, transfer also includes, but is not limited to, moving or attempting to move a tuna that is on fishing gear or other gear in the water from one vessel to another vessel.

(c) An owner or operator of a vessel for which a Purse Seine category Atlantic Tunas category permit has been issued under § 635.4 may transfer large medium and giant Atlantic BFT at sea from the net of the catching vessel to another vessel for which a Purse Seine category Atlantic Tunas permit has been issued, provided the amount transferred does not cause the receiving vessel to exceed its currently authorized vessel allocation, including incidental catch limits.

3. Section 635.51 is revised to read as follows:

§ 635.51 Authorized officer.

For the purposes of this subpart, an authorized officer is a person appointed by an ICCAT contracting party to conduct inspections for the purpose of determining compliance with ICCAT conservation and management measures and who possesses identification issued by the authorized officer's national government.

4. Section 635.52 is revised to read as follows:

§ 635.52 Vessels subject to inspection.

(a) All U.S. fishing vessels carrying fish species subject to regulation pursuant to a recommendation of ICCAT that have not been previously landed or transshipped at port, as well as the vessel's catch, gear, equipment, records, and any documents the authorized officer deems necessary to determine compliance with ICCAT conservation and management measures, are subject to inspection when in a port of any ICCAT contracting or cooperating non-contracting party. A list of ports, designated by ICCAT contracting or cooperating non-contracting parties, to which foreign vessels carrying fish species subject to regulation pursuant to a recommendation of ICCAT may seek entry is available on the ICCAT Web site.

(b) While in port, the master, crewmember, or any other person on a U.S. vessel carrying fish species subject to regulation pursuant to a recommendation of ICCAT must cooperate with an authorized officer during the conduct of an inspection, including by facilitating safe boarding. ICCAT recommendations require that inspections be carried out so that the vessel suffers minimum interference and inconvenience, and so that degradation of the quality of catch is avoided.

5. Section 635.53 is revised to read as follows:

§ 635.53 Prior notification.

(a) U.S. vessels carrying tuna or tuna-like species or other HMS that are seeking to enter the port of another ICCAT contracting or cooperating party must provide to the port State, at least 72 hours before the estimated time of arrival at the port or in accordance with any other time period specified by the foreign government, the following information:

(1) Vessel identification (External identification; Name; Flag State; ICCAT Record No., if any; IMO No., if any; and international radio call sign);

(2) Name of the designated port, as referred to in the ICCAT register, to which it seeks entry and the purpose of the port call;

(3) Fishing authorization or, where appropriate, any other authorization held by the vessel to support fishing operations on ICCAT-managed species and/or fish products originating from such species;

(4) Estimated date and time of arrival in port;

(5) In kilograms, the estimated quantities of each ICCAT-managed species and/or fish products originating from such species to be held on board and to be landed, with associated catch areas;

(6) Other information, as requested by the foreign ICCAT contracting or cooperating non-contracting party, to determine whether a vessel has engaged in IUU fishing, or related activities;

(b) After receiving information pursuant to paragraph (a) of this section, the foreign ICCAT contracting or cooperating non-contracting party should decide whether to authorize or deny the entry of a vessel into its port.

6. Section 635.54 is added to read as follows:

§ 635.54 Reports.

Owners and operators of U.S. vessels subject to inspection under § 635.23 are hereby notified that the ICCAT recommendation establishing a scheme for minimum standards for inspection in port requires that:

(a) Upon completion of the inspection, the authorized officer shall provide the Master of the U.S. fishing vessel with the inspection report containing the findings of the inspection, including any violations found and possible subsequent measures that could be taken by the foreign ICCAT contracting or cooperating non-contracting party. The Master of the U.S. vessel is entitled to add or have added to the report any comments or objections, and to add his or her own signature as an acknowledgement of receipt,

(b) Copies of the inspection report shall also be provided by the port State to the ICCAT Secretariat and, as appropriate, to NMFS and other contracting or cooperating non-contracting parties of ICCAT,

(c) Any enforcement action taken by the foreign ICCAT contracting or cooperating non-contracting party in response to an infringement shall be reported to the United States and to the ICCAT Secretariat, and

(d) The foreign ICCAT contracting or cooperating non-contracting party shall refer any infringements found that do not fall within its jurisdiction, or with respect to which it has not taken action, to the flag State of the vessel (i.e., to NMFS).

7. In § 635.71:

a. Remove and reserve paragraph (b)(29);

b. Add paragraph (a)(57): and

c. Revise paragraphs (b)(21), (c)(2), (d)(5), and (e)(5); to read as follows:

§ 635.71 Prohibitions.

* * * * *

(a) * * *

(57) Transfer in port or at sea any tuna, tuna-like species, or other HMS, as specified in § 635.29(a).

(b) * * *

(21) Transfer a tuna, except as may be authorized for the transfer of Atlantic BFT between purse seine vessels, as specified in § 635.29(c).

* * * * *

(c) * * *

(2) Transfer a billfish in port or at sea, as specified in § 635.29(a).

* * * * *

(d) * * *

(5) Transfer a shark in port or at sea, as specified in § 635.29(a).

* * * * *

(e) * * *

(5) Transfer a swordfish in port or at sea, as specified in § 635.29(a).

* * * * *

[FR Doc. 2014-21694 Filed 9-10-14; 8:45 am]

BILLING CODE 3510-22-P